DEPARTMENT OF ENERGY

Federal Energy Regulatory Commission

[Docket Nos. RP03-398-013, RP04-155-005, RP04-280-001, and RP04-94-002]

Northern Natural Gas Company; Notice of Compliance Filing

March 2, 2005.

Take notice that on February 24, 2005, Northern Natural Gas Company (Northern) tendered for filing to become part of its FERC Gas Tariff, Fifth Revised Volume No. 1, the following tariff sheets, with an effective date of January 1, 2005:

71 Revised Sheet No. 50

72 Revised Sheet No. 51

35 Revised Sheet No. 52

70 Revised Sheet No. 53

19 Revised Sheet No. 54

19 Revised Sheet No. 56

27 Revised Sheet No. 59

11 Revised Sheet No. 59A

30 Revised Sheet No. 60

10 Revised Sheet No. 60A

18 Revised Sheet No. 63

17 Revised Sheet No. 64

Northern states that the purpose of the filing is to file paginated tariff sheets that contain the provisions of the pro forma tariff sheets filed with the Systemm Levelized Account (SLA) Settlement on November 24, 2004, as supplemented on December 1, 2004, which resolved certain issues in Northern's rate case proceedings in Docket Nos. RP03-398-000 and RP04-155-000 with respect to Northern's system levelized account and related imbalance issues, and all issues in Docket Nos. RP04-280-000 and RP04-94-000. The Commission approved the SLA Settlement on February 14, 2005. The filing also includes an Appendix A listing the effective dates of certain tariff sheets filed as part of the SLA Settlement that were already paginated.

Northern further states that copies of the filing have been mailed to each of its customers and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-954 Filed 3-7-05; 8:45 am]

BILLING CODE 6717-01-P